DEPARTMENT OF COMMERCE

International Trade Administration

[C-580-837]

Notice of Final Results of Countervailing Duty Administrative Review: Certain Cut-to-Length Carbon-Quality Steel Plate from the Republic of Korea

AGENCY: Import Administration, International Trade Administration, Department of Commerce.

SUMMARY: On March 7, 2007, the Department of Commerce (“the Department”) published the preliminary results of the countervailing duty (“CVD”) administrative review of certain cut-to-length carbon-quality steel plate (“CTL Plate”) from the Republic of Korea (“Korea”). The review covers Donguk Steel Mill Co., Ltd. (“DSM”). The period of review (“POR”) is January 1, 2005, through December 31, 2005. The Department received comments concerning our preliminary results from DSM (“respondent”). The final results are listed in the section “Final Results of Review” below.

EFFECTIVE DATE: July 13, 2007.

FOR FURTHER INFORMATION CONTACT: Jolanta Lawska or Eric Greynolds, AD/CVD Operations, Office 3, Import Administration, International Trade Administration, U.S. Department of Commerce, Room 4014, 14th Street and Constitution Avenue, NW, Washington, DC 20230; telephone: (202) 482-8362 or (202) 482-6071, respectively.

SUPPLEMENTARY INFORMATION:

Background

On March 7, 2007, the Department published the preliminary results of the administrative review of the CVD order on CTL Plate from Korea. See Notice of Preliminary Results of Countervailing Duty Administrative Review: Certain Cut-to-Length Carbon-Quality Steel Plate from the Republic of Korea, 72 FR 10163 (March 7, 2007) (“Preliminary Results.”) We invited interested parties to comment on our Preliminary Results. We received comments from respondent. We received no comments from petitioners. No party requested a hearing.

Scope of the Order

The products covered by the CVD order are certain hot-rolled carbon-quality steel: (1) universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of the order are of rectangular, square, circular or other shape and of rectangular or non-rectangular cross-section where such non-rectangular cross-section is achieved subsequent to the rolling process (i.e., products which have been “worked after rolling'')--for example, products which have been beveled or rounded at the edges. Steel products that meet the noted physical characteristics that are painted, varnished or coated with plastic or other non-metallic substances are included within this scope. Also, specifically included in the scope of the order are high strength, low alloy (“HSLA”) steels. HSLA steels are recognized as steels with micro-alloying levels of elements such as chromium, copper, niobium, titanium, vanadium, and molybdenum. Steel products to be included in this scope, regardless of Harmonized Tariff Schedule of the United States (“HTSUS”) definitions, are products in which: (1) iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of this order unless otherwise specifically excluded. The following products are specifically excluded from the order: (1) products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

The merchandise subject to the order is currently classifiable under the HTSUS subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.

Comments from Interested Parties

We invited parties to comment on our Preliminary Results. On April 6, 2007, respondent filed a case brief. Petitioners did not submit a case brief or a rebuttal brief.

Analysis of Comments Received

All issues raised in the case brief by respondent to this administrative review are addressed in the accompanying Issues and Decision Memorandum: Final Results of Countervailing Duty Administrative Review: Certain Cut-to-Length Carbon-Quality Steel Plate from the Republic of Korea, (“Decision Memorandum”), which is hereby adopted by this notice. A listing of the issues which parties raised and to which we have responded, which are in the Decision Memorandum, is attached to this notice as Appendix I. Parties can find a complete discussion of the issues raised in this review and the corresponding recommendations in this public memorandum, which is on file in the Central Records Unit (“CRU”), room B-099 of the main Commerce building. In addition, a complete version of the Decision Memorandum can be accessed directly on the World Wide Web at http://ia.ita.doc.gov/frn. The paper copy and electronic version of the Decision Memorandum are identical in content.

Final Results of Review

In accordance with 19 CFR 351.221(b)(5), we calculated a subsidy rate for DSM for 2005. The final results of this review remain the same as the preliminary results. We determine the total net countervailable subsidy rate for DSM is 0.10 percent ad valorem for 2005, which is de minimis. See 19 CFR 351.106(c)(1).

Manufacturer/exporter | Margin (percent)
Donguk Steel Mill Co., Ltd. (DSM) | 0.10 (de minimis)

Assessment

The Department intends to issue assessment instructions to U.S. Customs and Border Protection (“CBP”) 15 days after the date of publication of these final results of review to liquidate shipments of subject merchandise by DSM entered, or withdrawn from warehouse, for consumption on or after January 1, 2005, through December 31, 2005, without regard to countervailing duties.

Cash Deposit Requirements

We will instruct CBP not to collect a cash deposit on entries of CTL Plate from DSM and to continue to collect cash deposits for non-reviewed companies at the most recent company-specific or country-wide rate applicable to the company. Accordingly, the cash deposit rate that will be applied to non-reviewed companies covered by this order are those established in the most recently completed administrative proceedings. See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000). These rates shall apply to all non-reviewed companies until a review of a company assigned this rate is requested.

This notice is also the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation. We are issuing and publishing these results and notice in accordance with sections 751(a)(1) and 777(i)(1) of the Act and 19 CFR 351.221(b)(5).

Dated: July 5, 2007.
David M. Spooner,
Assistant Secretary for Import Administration.

Appendix I - Issues and Decision Memorandum

I. Methodology And Background Information

II. Subsidies Valuation Information

A. Average Useful Life

B. Benchmarks for Long-Term Loans Issued through 2005

III. Analysis Of Programs

A. Programs Determined to Confer Subsidies

1. The GOK's Direction of Credit

2. Asset Revaluation under Tax Programs under the Tax Reduction and Exemption Control Act (TERCL) Article 56(2)

3. GOK Infrastructure Investment at Inchon North Harbor

4. Research and Development under Korea Research Association of New Iron and Steelmaking Technology (KANIST) (formerly KNISTRA)

B. Programs Determined to be not Used

1. Special Cases of Tax for Balanced Development Among Areas (TERCL Articles 41, 42, 43, 44, and 45) (Reserve for Investment Program)

2. Electricity Discounts (VRA, VCA, ELR and DLI Programs)

3. Price Discount for DSM Land Purchase at Asan Bay

4. Local Tax Exemption on Land Outside of Metropolitan Area

5. Exemption of VAT on Anthracite Coal

C. Programs Determined to be not Countervailable

1. Special Tax Credit for Boosting Employment

IV. Total Ad Valorem Rate

V. Analysis Of Comments

Comment: GOK Infrastructure Investment at Inchon North Harbor

[FR Doc. E7-13653 Filed 7-12-07; 8:45 am]

BILLING CODE 3510-DS-S